DEPARTMENT OF AGRICULTURE

Forest Service

Tahoe National Forest; California; North Yuba Landscape Resilience Project EIS

AGENCY: Forest Service, Agriculture (USDA).

ACTION: Notice of intent to prepare an environmental impact statement.

SUMMARY: The Forest Service, U.S. Department of Agriculture, is preparing an Environmental Impact Statement (EIS) for the North Yuba Landscape Resilience Project. The purpose of the Project is to improve and restore forest health and resilience, reduce the risk of uncharacteristic wildfire, protect and secure water supplies, and protect communities from the effects of high-severity wildfire and climate change in the North Yuba River watershed. Actions to reduce hazardous forest fuels and enhance forest resilience to severe disturbances from wildfire, insect and disease infestation, drought, and anticipated future climate change are intended to provide long-term benefits to the Landscape's communities and ecosystems. These actions include several project-specific amendments to the Land Management Plan for the Tahoe National Forest related to management of California spotted owl habitat. The amendments are based on the Conservation Strategy for the California Spotted Owl in the Sierra Nevada (USDA Forest Service 2019) and rely on the best available science.

DATES: Comments concerning the scope of the analysis must be received 30 days from date of publication in the Federal Register. The draft environmental impact statement is expected July 2022, and the final environmental impact statement is expected March 2023.

ADDRESSES: Send written comments via mail or by hand delivery to Eli Ilano, Tahoe National Forest Supervisor, c/o Laurie Perrot, Attn: North Yuba Project, 631 Coyote Street, Nevada City, CA 95959. Comments may also be submitted electronically: http://www.fs.fed.us/nepa/nepa_project_exp.php?project=59693.

FOR FURTHER INFORMATION CONTACT: Laurie Perrot, Forest Environmental Coordinator, laurie.perrot@usda.gov. Additional information concerning the proposed Project is available online at http://www.fs.usda.gov/projects/tahoe/landmanagement/projects. Individuals who use telecommunication devices for the hearing-impaired (TDD) may call the Federal Relay Service (FRS) at 1-800-877-8339, 24 hours a day, every day of the year, including holidays.

SUPPLEMENTARY INFORMATION: The proposed North Yuba Landscape Resilience Project (Project) is a watershed-scale forest restoration project in the North Yuba Watershed within the Tahoe National Forest developed through a collaborative process by the North Yuba Forest Partnership, a diverse group of nine entities. The Project area stretches from New Bullards Bar Reservoir east up to the Sierra Crest along Highway 49. The planning area (or Landscape) is approximately 275,000 acres, of which approximately 210,000 acres are National Forest System lands. The watershed includes substantial forest habitat, is an important source of water to downstream users, supports high biodiversity, offers excellent opportunities for recreation, and is home to the communities of Camptonville, Downieville, and Sierra City.

Many homes and communities are located within and near the Landscape's forested areas. Recognizing community safety and forest health are complementary and interrelated, the Forest Service is acting together with other public and private stakeholders to reduce the risk of high-severity wildfire and protect communities at an increased pace and scale, given the geographic scope and severity of the problem.

Given project implementation will occur over many years, it is desirable to allow regular opportunities to address changing conditions on the ground (e.g., insect outbreak, wildfire, etc.) and provide periodic formal, structured public comment and pre-decisional administrative review opportunities before decisions are made. Toward this end, a staged decision-making approach is planned for this Project. Staged decision-making means proposed actions for the entire Landscape would be analyzed in the EIS; however, separate records of decisions would be issued for smaller sub-project areas within the Landscape. This approach would allow surveys to be completed prior to each decision and provide the opportunity to review potential new information or changed circumstances that could have a bearing on the proposed action and its impacts and potentially require supplemental NEPA analysis.

Purpose and Need for Action

Tahoe National Forest Land and Resource Management Plan (LRMP 1990) as amended by the Sierra Nevada Forest Plan Amendment Record of Decision (SNFPA ROD 2004), collectively referred to as the Forest Plan, provides the foundation for the purpose of the Project. The Project's purpose is further supported by the North Yuba Forest Partnership's four goals for this Landscape: (1) Improve and restore forest health and resilience, which is aligned with Forest Plan direction to respond to deteriorating forest health by reducing susceptibility of forest stands to insect- and drought-related tree mortality (SNFPA ROD, pp. 6, 32, and 44-48); (2) reduce the risk of high severity wildfire, which is aligned with Forest Plan direction to reduce threats to communities and wildlife habitat from large, severe wildfires (SNFPA ROD, pp. 8, 34, and 44-48); (3) protect local communities from the effects of high severity wildfire and climate change, which is aligned with Forest Plan direction to reduce the risk of wildfire to communities in the urban wildland interface while modifying fire behavior over the broader landscape (SNFPA ROD, pp. 3, 34, and 45-46); and (4) protect and secure water supplies through restoring watershed process and function, which is aligned with Forest Plan direction for addressing forest health; reducing risk of large, severe wildfires; and maintaining, restoring, and enhancing aquatic, riparian, and meadow ecosystems (SNFPA ROD, pp. 32-34, 42-43, and 62-66).

Needs for this proposal are driven by existing problematic conditions in the North Yuba Landscape in the areas of forest resilience, fire dynamics, fire-adapted communities, water security, and biodiversity conservation. Actions are needed to: (1) Restore forest structure and species composition to develop heterogeneous forest stands and a forested landscape resilient to severe impacts from wildfire, insect and disease infestation, drought, and anticipated future conditions resulting from climate change; (2) reduce hazardous forest fuels to reduce wildfire spread and intensity and facilitate reintroduction of more frequent, low- to moderate-severity fires; (3) reduce hazardous forest fuels and stand densities in strategic locations to help protect communities and critical infrastructure in the event of a wildfire and to facilitate wildfire management operations; (4) reduce sedimentation from existing roads, trails, ditches, and other diversions and restore the natural hydrologic function of soils, meadows, and fens; and (5) maintain, enhance, and restore important terrestrial, riparian, and aquatic habitats.

Proposed Action

The Tahoe National Forest is proposing multiple actions to meet the Project's purpose and need, including prescribed fire; thinning; opening creation; strategic tree planting; sanitation cutting and stand improvement; restoration of aspen stands, meadows, and fens; stream channel restoration; soil decompaction; road repair, maintenance, and decommissioning; and removal of non-native invasive plants. In addition, project-specific amendments to the Tahoe National Forest Land and Resource Management Plan (1990 and 2004, as amended) are proposed.

Actions are proposed in the following emphasis areas: (1) Forest matrix; (2) infrastructure, strategic fuel area, and designated recreation site; and (3) unique ecological communities. Landscape-wide actions are proposed for roads, soils, and non-native invasive plant treatments.

Vegetation and fuels management treatments include prescribed fire, thinning from below, variable density thinning, creation of one to three-acre openings, strategic tree planting, and sanitation cutting and stand improvement. Prescribed fire includes underburning and piling and burning as well as activities needed to prepare areas for burning, such as mastication, chipping and hand cutting and/or pruning shrubs and small trees, lopping and scattering cut material, and/or machine or hand cutting and piling of material and fire-control line construction.

Different types and combinations of activities are proposed in key areas designated in the Forest Plan: (1) Inventoried roadless areas (IRAs), (2) California spotted owl and northern goshawk protected activity centers (PACs), (3) California spotted owl home range core areas (HRCAs), and (4) other forested areas, which include wildland urban intermix (WUI) threat zones, old forest emphasis areas, and general forest areas. The proposed action recognizes the importance of re-introducing fire in the Landscape. In all designated areas, forest stands needing treatment would first be evaluated to determine whether prescribed fire could be applied as a stand-alone treatment. In such cases, prescribed fire would need to be effective in meeting treatment objectives for the stand(s) without resulting in excessive rates of fire spread and fire-caused mortality of large trees.

Encroaching trees would be removed as needed in approximately 1,716 acres of meadows and fens. Roads and/or trails impacting the meadow or fen would be realigned or reconstructed to reduce or eliminate their impact to the meadow or fen. Ditches would be plugged, and other diversions disconnected from the meadow or fen to restore natural hydrology. Incised stream channels in meadows or fens would be restored.

Proposed road management actions include maintenance, improvement, realignment, and decommissioning. All temporary roads used for project implementation would be decommissioned upon completion of project activities. No new permanent roads are proposed for construction. Manual, cultural, and chemical methods would be used for invasive plant removal.

Forest Plan Amendment

The proposed action includes several project-specific amendments to the Tahoe National Forest Land and Resource Management Plan (LRMP 1990) as amended by the Sierra Nevada Forest Plan Amendment Record of Decision (SNFPA ROD 2004). Proposed changes include modifying, removing, and adding specific forest plan components to: (1) Protect California spotted owl protected activity centers (PACs) by enhancing their resilience to severe disturbances, thereby providing for their long-term sustainability on the Landscape; (2) address needs for enhancing habitat resiliency in California spotted owl home range core areas (HRCAs); (3) balance needs for protecting PACs with protecting public and firefighter safety and reducing fire hazards near communities, critical access roads, and infrastructure for emergency services, communications, and power delivery; (4) enhance forest resilience by retaining large conifer trees (greater than or equal to 30 inches diameter at breast height [DBH]) while allowing some large trees to be removed under specific circumstances to enhance stand heterogeneity and meet project objectives for tree species composition and stand density; (5) effectively manage forest stand density for improved resilience in light of anticipated climate change. The proposed forest plan amendments would apply only to the North Yuba Landscape Project.

The proposed forest plan amendments pertaining to the California spotted owl are based on the Conservation Strategy for the California Spotted Owl in the Sierra Nevada (USDA Forest Service 2019, referred to as the Conservation Strategy). The Conservation Strategy provides updated management recommendations, based on best available science, that focus on maintaining high-quality spotted owl habitat while increasing habitat resiliency across landscapes.

Substantive Provisions

In accordance with 36 CFR 219.13, the Responsible Official has determined the following specific substantive requirement(s) within §§ 219.8 through 219.11 are directly related to the plan direction being added, modified, or removed by the proposed amendments: 36 CFR 219.8(a)(1): Sustainability, (a) Ecological sustainability. (1) Ecosystem Integrity; 36 CFR 219.9(a)(1) and (2) and (b): Diversity of Plant and Animal Communities, (a) Ecosystem plan components, (1) Ecosystem integrity and (2) Ecosystem diversity and (b) Additional Species-Specific Plan Components; 36 CFR 219.10(a)(1), (5), (7), and (8): Multiple Use, (a) Integrated resource management for multiple use; (1) Aesthetic values, cultural and heritage resources, ecosystem services, fish and wildlife species, forage, geologic features, grazing and rangelands, habitat and habitat connectivity, recreation settings and opportunities, riparian areas, scenery, soil, surface and subsurface water quality, timber, trails, vegetation, viewsheds, and other relevant resources and uses; (5) Habitat conditions, subject to the requirements of § 219.9, for wildlife, fish, and plants commonly enjoyed and used by the public; for hunting, fishing, trapping, gathering, observing, subsistence, and other activities (in collaboration with federally recognized Tribes, Alaska Native Corporations, other Federal agencies, and State and local governments); (7) Reasonably foreseeable risks to ecological, social, and economic sustainability; and (8) System drivers, including dominant ecological processes, disturbance regimes, and stressors, such as natural succession, wildland fire, invasive species, and climate change; and the ability of the terrestrial and aquatic ecosystems on the plan area to adapt to change (§ 219.8).

Preliminary Alternatives

An alternative that does not adopt the proposed project-specific forest plan amendments would be developed and analyzed. Other alternatives would be developed based on scoping input.

Expected Impacts

Among the significant impacts expected to be analyzed in the EIS are: Effects on habitat for the California spotted owl and other old forest-associated species, impacts on roadless area characteristics in IRAs, and impacts on the density and distibution of trees greater than 30 inches DBH.

Responsible Official

The Responsible Official is the Forest Supervisor of the Tahoe National Forest.

Scoping Comments and the Objection Process

This notice of intent initiates the scoping process, which guides the development of the environmental impact statement. In this process, the Agency is requesting comments on potential alternatives and impacts, and identification of any relevant information, studies or analyses of any kind concerning impacts affecting the quality of the human environment. Please visit the North Yuba Forest Partnership website for information about public meetings: https://yubaforests.org.

It is important that reviewers provide their comments at such times and in such manner that they are useful to the Agency's preparation of the environmental impact statement. Therefore, comments should be provided prior to the close of the comment period and should clearly articulate the reviewer's concerns and contentions. Commenting during scoping and any other designated opportunity to comment provided by the Responsible Official will also establish standing to object once the final EIS and Draft Record of Decision has been published. Comments received in response to this solicitation, including names and addresses of those who comment, will be part of the public record for this proposed action. Comments submitted anonymously will be accepted and considered, however, they will not be used to establish standing for the objection process.

Nature of Decision To Be Made

The EIS will support staged decision-making, which will be documented in multiple records of decisions for sub-project areas that have completed surveys. For all decisions, the Responsible Official will consider all reasonable alternatives in light of the purpose and need and environmental effects to decide whether to implement the proposed action, implement one of the other action alternatives, or decide to take no action for one or more of the sub-project areas within the Landscape. In the initial record of decision, the Responsible Official will also determine whether to modify, remove, and add specific forest plan components that would apply to actions in the North Yuba Landscape Resilience Project area during the life of the Project. Subsequent decisions will be made as required surveys are completed and sub-project areas reviewed for possible new information and/or changed circumstances.

Dated: September 10, 2021.
Barnie Gyant,
Associate Deputy Chief, National Forest System.

[FR Doc. 2021-20044 Filed 9-15-21; 8:45 am]

BILLING CODE 3411-15-P